DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before May 4, 2011. Address written comments to Statutory Import Programs Staff, Room 3720, U.S. Department of Commerce, Washington, DC 20230. Applications may be examined between 8:30 a.m. and 5 p.m. at the U.S. Department of Commerce in Room 3720.

Docket Number: 11-023. Applicant: UChicago Argonne, LLC., 9700 South Cass Ave., Lemont, IL 60439. Instrument: Mythen 1K Detector System. Manufacturer: Dectris Ltd., Switzerland. Intended Use: The instrument will be used for resonant inelastic x-ray scattering (RIXS) to study the electronic structure of highly correlated systems. This instrument is unique in that it has a small pixel pitch (50 microns); high detection efficiency, single photon counting with high dynamic range; and a small, lightweight and compact design. Justification for Duty-Free Entry: There are no instruments of the same general category being manufactured in the United States. Application accepted by Commissioner of Customs: March 29, 2011.

Dated: April 8, 2011.
Gregory Campbell,
Acting Director, IA Subsidies Enforcement Office.

[FR Doc. 2011-9107 Filed 4-13-11; 8:45 am]

BILLING CODE 3510-DS-P